DEPARTMENT OF VETERANS AFFAIRS

Advisory Committee on Former Prisoners of War, Notice of Meeting

The Department of Veterans Affairs (VA) gives notice under Public Law 92-463 (Federal Advisory Committee Act) that the Advisory Committee on Former Prisoners of War has scheduled a meeting on April 9-11, 2012, in Room 230 at the Department of Veterans Affairs, 810 Vermont Avenue NW., Washington, DC. The meeting will begin at 1 p.m. and end at 4 p.m. on April 9 and from 9 a.m. to 4 p.m. on April 10 and 11.

The purpose of the Committee is to advise the Secretary of Veterans Affairs on the administration of benefits under Title 38, United States Code, for Veterans who are former prisoners of war, and to make recommendations on the needs of such Veterans for compensation, health care, and rehabilitation.

On April 9, the Committee will hear from its Chairman and receive a briefing on the Employee Education System and annual ethics training. On April 10, the Committee will receive additional briefings by its Chairman, the Under Secretary of Benefits, and the Director, Compensation Service. They will also receive briefings on the Robert E. Mitchell Center; home care programs available to former prisoners of war through the Veterans Health Administration for those physically unable to visit a VA health care facility; and outreach to the former prisoners of war community. On April 11, the Committee will discuss its recommendations and topics for future discussion. Time will be allocated for receiving public comments at 2 p.m.

Individuals who speak are invited to submit 1-2 page summaries of their comments at the end of the meeting for inclusion in the official meeting record. Members of the public may also submit written statements for the Committee's review to Ms. Pam Burd, Program Analyst, Compensation Service (212), Department of Veterans Affairs, 810 Vermont Avenue NW., Washington, DC 20420, or email at pamela.burd@va.gov. Any member of the public seeking additional information should contact Ms. Burd at (202) 461-9149.

Dated: March 23, 2012.
By Direction of the Secretary.
Vivian Drake,
Committee Management Officer.

[FR Doc. 2012-7512 Filed 3-28-12; 8:45 am]

BILLING CODE P